COMMODITY FUTURES TRADING COMMISSION

Agency Information Collection Activities Under OMB Review

AGENCY: Commodity Futures Trading Commission.

ACTION: Notice.

SUMMARY: In compliance with the Paperwork Reduction Act of 1995 (“PRA”), this notice announces that the Information Collection Request (“ICR”) abstracted below has been forwarded to the Office of Management and Budget (“OMB”) for review and comment. The ICR describes the nature of the information collection and its expected costs and burden.

DATES: Comments must be submitted on or before September 26, 2024.

ADDRESSES: Written comments and recommendations for the proposed information collection should be submitted within 30 days of this notice's publication to OIRA, at https://www.reginfo.gov/public/do/PRAMain. Please find this particular information collection by selecting “Currently under 30-day Review—Open for Public Comments” or by using the website's search function. Comments can be entered electronically by clicking on the “comment” button next to the information collection on the “OIRA Information Collections Under Review” page, or the “View ICR—Agency Submission” page. A copy of the supporting statement for the collection of information discussed herein may be obtained by visiting https://www.reginfo.gov/public/do/PRAMain.

In addition to the submission of comments to https://Reginfo.gov as indicated above, a copy of all comments submitted to OIRA may also be submitted to the Commodity Futures Trading Commission (the “Commission” or “CFTC”) by clicking on the “Submit Comment” box next to the descriptive entry for OMB Control No. 3038-0095, at https://comments.cftc.gov/FederalRegister/PublicInfo.aspx.

Or by either of the following methods:

• Mail: Christopher Kirkpatrick, Secretary of the Commission, Commodity Futures Trading Commission, Three Lafayette Centre, 1155 21st Street NW, Washington, DC 20581.

• Hand Delivery/Courier: Same as Mail above.

All comments must be submitted in English, or if not, accompanied by an English translation. Comments submitted to the Commission should include only information that you wish to make available publicly. If you wish the Commission to consider information that you believe is exempt from disclosure under the Freedom of Information Act, a petition for confidential treatment of the exempt information may be submitted according to the procedures established in § 145.9 of the Commission's regulations. The Commission reserves the right, but shall have no obligation, to review, prescreen, filter, redact, refuse or remove any or all of your submission from https://www.cftc.gov that it may deem to be inappropriate for publication, such as obscene language. All submissions that have been redacted or removed that contain comments on the merits of the ICR will be retained in the public comment file and will be considered as required under the Administrative Procedure Act and other applicable laws, and may be accessible under the Freedom of Information Act.

FOR FURTHER INFORMATION CONTACT: Robert B. Wasserman, Chief Counsel and Senior Advisor, Division of Clearing and Risk, Commodity Futures Trading Commission, (202) 418-5092; email: rwasserman@cftc.gov, and refer to OMB Control No. 3038-0021.

SUPPLEMENTARY INFORMATION:

Title: Regulations Governing Bankruptcies of Commodity Brokers (OMB Control No. 3038-0021). This is a request for an extension of a currently approved information collection.¹

¹ There are two information collections associated with OMB Control No. 3038-0021. The first includes the reporting, recordkeeping, and third party disclosure requirements applicable to a single respondent in a commodity broker liquidation (e.g., a single commodity broker or a single trustee) within the relevant time period provided for in Commission regulations 190.02(b)(1), 190.02(b)(2), 190.02(c)(1), 190.02(c)(2), 190.02(c)(4), 190.05(b), 190.05(d), 190.07(b)(5), 190.12(a)(2), 190.12(b)(1), 190.12(b)(2), 190.12(c)(1), 190.12(c)(2), and 190.14(a), and 190.14(d). The second information collection includes third party disclosure requirements that are applicable on a regular basis to multiple respondents (i.e., multiple FCMs) provided for in Commission regulations 1.41, 1.43 and 1.55(p).

Abstract: This collection of information involves the reporting, recordkeeping, and third-party disclosure requirements set forth in the CFTC's bankruptcy regulations for commodity broker liquidations, 17 CFR part 190. These regulations apply to commodity broker liquidations under Chapter 7, Subchapter IV of the Bankruptcy Code.²

² 11 U.S.C. 761 et seq.

The reporting requirements include, for example, notices to the Commission regarding the filing of petitions for bankruptcy and notices to the Commission regarding the intention to transfer open commodity contracts in a commodity broker liquidation. The recordkeeping requirements include, for example, the statements of customer accounts that a trustee appointed for the purposes of a commodity broker liquidation (Trustee) must generate and adjust as set forth in the regulations. The third party disclosure requirements include, for example, the disclosure statement that a commodity broker must provide to its customers containing information regarding the manner in which customer property is treated under part 190 of the Commission's regulations in the event of a bankruptcy and, in the event of a commodity broker liquidation, certain notices that a Trustee must provide to customers and to the persons to whom commodity contracts and specifically identifiable customer property have been or will be transferred. The information collection requirements are necessary, and will be used, to facilitate the effective, efficient, and fair conduct of liquidation proceedings for commodity brokers and to protect the interests of customers in these proceedings both directly and by facilitating the participation of the CFTC in such proceedings.

An agency may not conduct or sponsor, and a person is not required to respond to, a collection of information unless it displays a currently valid OMB number. On June 17, 2024, the Commission published in the Federal Register notice of the proposed extension of this information collection and provided 60 days for public comment on the proposed extension, 89 FR 51315, June 17, 2024 (“60-Day Notice”). The Commission did not receive any relevant comments. Accordingly, the Commission is retaining the burden estimates set forth in the 60-Day Notice.

Burden Statement: The Commission notes that commodity broker liquidations occur at unpredictable and irregular intervals when particular commodity brokers become insolvent. While a commodity broker liquidation has not occurred in the past three years, the Commission took the conservative approach of maintaining the assumptions contained in the previous renewal of this information collection that, on average, a Futures Commission Merchant (“FCM”) commodity broker liquidation would occur every three years and that a Derivatives Clearing Organization (“DCO”) commodity broker liquidation would occur every fifty years. The Commission generally has retained the burden hour estimates set forth in the previous information collection as there have been no interim experiences nor are there currently apparent circumstances that would warrant altering those estimates. The Commission further notes, however, that the information collection burden will vary in particular commodity broker liquidations depending on the size of the commodity broker, the extent to which accounts are able to be quickly transferred, and other factors specific to the circumstances of the liquidation.

The respondent burden for this information collection is estimated to be as follows: ³

³ Because an FCM commodity broker liquidation is estimated to occur only once every three years, this information collection expresses such burdens in terms of those that would be imposed on one respondent during the three-year period.

• Reporting—FCMs: ⁴

⁴ The reporting requirements for FCMs are contained in Commission regulations 190.03(b)(1) and 190.03(b)(2).

Estimated Number of Respondents: 1.

Estimated Annual Number of Responses per Respondent: 1.

Estimated Total Annual Number of Responses: 1.

Estimated Annual Number of Burden Hours per Respondent: 1.

Estimated Total Annual Burden Hours: 1.

Type of Respondents: FCM commodity brokers who have filed a petition in bankruptcy, Trustees.

Frequency of Collection: On occasion.

• Recordkeeping—FCMs: ⁵

⁵ The recordkeeping requirements for FCMs are contained in Commission regulations 190.05(b) and 190.05(d).

Estimated Number of Respondents: 1.

Estimated Annual Number of Responses per Respondent: 26,666.67.

Estimated Total Annual Number of Responses: 26,666.67.

Estimated Annual Number of Burden Hours per Respondent: 266.67.

Estimated Total Annual Burden Hours: 266.67.

Type of Respondents: Trustees.

Frequency of Collection: Only during the pendency of an FCM bankruptcy: daily and on occasion.

• Third Party Disclosures Applicable to a Single Respondent—FCMs: ⁶

⁶ These third party disclosure requirements are contained in Commission regulations 190.03(c)(1), 190.03(c)(2), 190.02(c)(4), and 190.07(b)(5).

Estimated Number of Respondents: 1.

Estimated Annual Number of Responses per Respondent: 10,003.32.

Estimated Total Annual Number of Responses: 10,003.32.

Estimated Annual Number of Burden Hours per Respondent: 1,336.66.

Estimated Total Annual Burden Hours: 1,336.66.

Type of Respondents: Trustees.

Frequency of Collection: On occasion.

• Reporting—DCOs: ⁷

⁷ The reporting requirements for DCOs are contained in Commission regulations 190.12(a)(2), 190.12(b)(1), 190.12(b)(2), 190.12(c)(1), and 190.12(c)(2).

Estimated Number of Respondents: ⁸ 1.

⁸ Because a DCO commodity broker liquidation is estimated to occur only once every fifty years, this information collection expresses such burdens in terms of those that would be imposed on one respondent during the fifty-year period.

Estimated Annual Number of Responses per Respondent: 1.

Estimated Total Annual Number of Responses: 1.

Estimated Annual Number of Burden Hours per Respondent: 2.98.

Estimated Total Annual Burden Hours: 0.61.

Type of Respondents: DCO commodity brokers who have filed a petition in bankruptcy, Trustees.

Frequency of Collection: On occasion.

• Recordkeeping—DCOs: ⁹

⁹ The recordkeeping requirements for DCOs are contained in Commission regulation 190.14(d).

Estimated Number of Respondents: 1.

Estimated Annual Number of Responses per Respondent: 9.

Estimated Total Annual Number of Responses: 9.

Estimated Annual Number of Burden Hours per Respondent: 0.9.

Estimated Total Annual Burden Hours: 0.9.

Type of Respondents: Trustees.

Frequency of Collection: Only during the pendency of a DCO bankruptcy: daily.

• Third Party Disclosures Applicable to a Single Respondent—DCOs: ¹⁰

¹⁰ The third-party disclosure requirements for DCOs are contained in Commission regulation 190.14(a).

Estimated Number of Respondents: 1.

Estimated Annual Number of Responses per Respondent: 9.

Estimated Total Annual Number of Responses: 9.

Estimated Annual Number of Burden Hours per Respondent: 0.9.

Estimated Total Annual Burden Hours: 0.9.

Type of Respondents: Trustees.

Frequency of Collection: On occasion.

• Third Party Disclosures Applicable to Multiple Respondents During Business as Usual: ¹¹

¹¹ The third-party disclosure requirements that are applicable on a regular basis to multiple respondents (i.e., multiple FCMs) are contained in Commission regulations 1.41, 1.43 and 1.55(p).

Estimated Number of Respondents: 125.

Estimated Annual Number of Responses per Respondent: 3,000.

Estimated Total Annual Number of Responses: 375,000.

Estimated Annual Number of Burden Hours per Respondent: 20.

Estimated Total Annual Burden Hours: 7,500.

Type of Respondents: FCMs.

Frequency of Collection: On occasion.

There are no new capital or start-up or operations costs associated with this information collection, nor are there any maintenance costs associated with this information collection.

(Authority: 44 U.S.C. 3501 et seq.)

Dated: August 22, 2024.
Robert Sidman,
Deputy Secretary of the Commission.

[FR Doc. 2024-19214 Filed 8-26-24; 8:45 am]

BILLING CODE 6351-01-P